SOCIAL SECURITY ADMINISTRATION

20 CFR Part 411

[Docket No. SSA-2011-0034]

RIN 0960-AH34

Mailing of Tickets Under the Ticket to Work Program

AGENCY: Social Security Administration.

ACTION: Interim final rule with request for comments.

SUMMARY: The Social Security Act (Act) states that we may issue a Ticket to Work (Ticket) to disabled beneficiaries for participation in the Ticket to Work program (Ticket program). Under our current rules, however, we mail initial Ticket notices to all Ticket-eligible beneficiaries, regardless of whether they are likely to participate in the program, immediately after they begin receiving benefits. We are modifying our rules so that we may send a Ticket to eligible disabled beneficiaries. We will inform all newly eligible and current beneficiaries of the availability of the program via routine correspondence. In addition, we will conduct Ticket outreach to those disabled beneficiaries who are most likely to return to work. We will send a Ticket to any eligible disabled beneficiary upon request, regardless of whether we have identified the beneficiary through our outreach efforts. We expect this change will make the Ticket program more effective. This change does not affect Ticket eligibility requirements.

DATES: This interim final rule is effective January 12, 2012.

Comment Date: To ensure that your comments are considered, we must receive them no later than March 12, 2012.

ADDRESSES: You may submit comments by any one of three methods—Internet, fax, or mail. Do not submit the same comments multiple times or by more than one method. Regardless of which method you choose, please state that your comments refer to Docket No. SSA-2011-0034 so that we may associate your comments with the correct regulation.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function to find docket number SSA-2011-0034. The system will issue a tracking number to confirm your submission. You will not be able to view your comment immediately because we must post each comment manually. It may take up to a week for your comment to be viewable.

2. Fax: Fax comments to (410) 966-2830.

3. Mail: Mail your comments to the Office of Regulations, Social Security Administration, 107 Altmeyer Building, 6401 Security Boulevard, Baltimore, Maryland 21235-6401.

Comments are available for public viewing on the Federal eRulemaking portal at http://www.regulations.gov or in person, during regular business hours, by arranging with the contact person identified below.

FOR FURTHER INFORMATION CONTACT: Desiree Fitzgerald, Office of Retirement and Disability Policy, Office of Employment Support Programs, Social Security Administration, 6401 Security Boulevard, Baltimore, MD 21235-6401, (410) 965-7456. For information on eligibility or filing for benefits, call our national toll-free number, 1-(800) 772-1213 or TTY 1-(800) 325-0778, or visit our Internet site, Social Security Online, at http://www.socialsecurity.gov.

SUPPLEMENTARY INFORMATION: The Ticket program has expanded the universe of service providers available to individuals who are entitled to Social Security benefits based on disability or Supplemental Security Income (SSI) benefits based on disability or blindness. Congress established the Ticket program in the Ticket to Work and Work Incentives Improvement Act of 1999 to provide disability beneficiaries a choice in obtaining the services and technology that they need in order to find, secure, and maintain employment.¹ Congress explicitly recognized that, while many people who receive disability benefits want to work and may have the potential to work, they face a number of significant barriers that may prevent them from doing so.² Additionally, Congress recognized that the savings to the Social Security Trust Funds and to the Treasury would be significant even if only a small percentage of current Social Security disability beneficiaries and SSI recipients were to cease receiving benefits as a result of employment.³

¹ Public Law 106-170.

² Sec. 2(a), Public Law 106-170.

³ Sec. 2(a)(12), Public Law 106-170.

Under the Ticket program, we may issue Tickets to eligible Social Security disability beneficiaries and disabled or blind SSI recipients. The Ticket program provides these beneficiaries with a Ticket that they may use to obtain vocational rehabilitation services, employment services, and other support services from an employment network or from a State vocational rehabilitation agency. This support allows these individuals to enter into and retain employment and reduces dependency on Social Security and SSI cash benefits.

Although not required by the Act, our current rules state that we will mail Tickets to all Ticket-eligible beneficiaries.⁴ We currently mail Tickets shortly after we award a disability or blindness-related benefit, regardless of the beneficiary's likelihood to participate in the program immediately after they begin receiving benefits.

⁴ Section 1148(b)(1) of the Act states that “the Commissioner may issue a ticket to disabled beneficiaries for participation in the Program;” 20 CFR 411.130.

As of October 1, 2011, we issued about 12.5 million active Tickets to eligible beneficiaries since revising our Ticket to Work regulations in 2008.⁵ However, of those 12.5 million Tickets, only 286,348 are assigned or in use.⁶ We expend significant financial and administrative resources to mail the Tickets as required by our current rules, over ninety-seven percent of which beneficiaries never use. We will save about one million dollars each year in print and mail costs by informing newly eligible disabled beneficiaries about their eligibility for the Ticket program in their award letters instead of sending a separate piece of mail containing a ticket.

⁵ 41st Month Report: Impact of Regulatory Changes (5/1/08-10/1/11). Available at: http://www.socialsecurity.gov/work/enpayments_stats.html.

⁶ Id.

Participation rates in the Ticket program vary with the characteristics of eligible beneficiaries.⁷ A recent Ticket to Work program study, conducted by an outside research firm, assessed which characteristics are most predictive of Ticket assignment among new beneficiaries—the group to which we currently mail Tickets. According to the study, characteristics such as age and months since earliest disability onset are strong predictors of participation in the Ticket program.⁸

⁷ See Stapleton, David, et al., Ticket to Work at the Crossroads: A Solid Foundation with an Uncertain Future 30 (September, 2008). Available at: http://www.socialsecurity.gov/disabilityresearch/ttw4/TTW_Rpt4_508_vol1r.pdf.

⁸ Altshuler, Norma, et al., Provider Experiences Under the Revised Ticket to Work Regulations (September, 2011). Available at: http://opdr.ssahost.ba.ssa.gov/documents/Provider%20Experience%20Under%20New%20TTW%20Regulations%20September%202011.pdf.

In our experience, it is unnecessary to mail Tickets to all beneficiaries, especially when they are not likely to participate in the program at that point in time. Because it is unlikely that some beneficiaries will need or be able to use a Ticket, we do not believe that it is the best use of our limited resources to continue mailing Tickets to every Ticket-eligible beneficiary. Instead, we will use more focused and cost-effective methods to publicize the Ticket program.

We are modifying § 411.130 so that we may send a Ticket to an eligible beneficiary. Removing the current requirement that we must send Tickets to all eligible beneficiaries, regardless of the likelihood that the beneficiary will ever use the Ticket, will allow us to better focus our limited resources on those beneficiaries who are most likely to return to work. We are also modifying § 411.130 to make clear that Ticket-eligible beneficiaries may receive a Ticket upon request.

We will inform newly eligible disabled beneficiaries about their eligibility for the Ticket program in their award letters instead of sending a separate piece of mail containing a Ticket. To request a Ticket and participate in the Ticket program, a beneficiary can contact the Ticket Call Center toll free at 1-(866) 968-7842 or TTY 1-(866) 833-2967.

We will remind current disabled beneficiaries of the availability of the program in their annual Cost of Living Adjustment notices and in other letters that they receive from us. We also expect to expand our current outreach efforts in the near future to increase awareness of the Ticket program by calling beneficiaries who are the “most likely to return to work” to tell them about the program. Information bulletins informing claimants and beneficiaries of the availability of employment support services, including the Ticket program, will also be available at our field offices.

The changes we are making in these rules will also help make our rules more internally consistent. A “Ticket” is defined in our rules at § 411.115 as “a document described in § 411.120 which the Commissioner may issue to disabled beneficiaries for participation in the Ticket to Work program.” Since we recognize in § 411.115 that we “may issue” Tickets to disabled beneficiaries, our revision to § 411.130 will better reflect the definition of a Ticket in § 411.115. In addition, the change we are making here is consistent with the language of section 1148(b)(1) of the Act, which gives us discretion as to the form and manner in which Tickets may be distributed.⁹

⁹ Public Law 106-170.

Clarity of This Rule

Executive Order 12866, as supplemented by Executive Order 13563, requires each agency to write all rules in plain language. In addition to your substantive comments on this interim final rule, we invite your comments on how to make the rules easier to understand.

For example:

• Would more, but shorter, sections be better?

• Are the requirements in the rule clearly stated?

• Have we organized the material to suit your needs?

• Could we improve clarity by adding tables, lists, or diagrams?

• What else could we do to make the rule easier to understand?

• Does the rule contain technical language or jargon that is not clear?

• Would a different format make the rule easier to understand, e.g. grouping and order of sections, use of headings, paragraphing?

When will we start to use this rule?

We will start to use this rule on the effective date shown under DATES earlier in this preamble.

We are also inviting public comment on the changes made by this interim final rule. We will consider any relevant comments we receive. We will publish a final rule to respond to those comments and to make any appropriate changes.

Regulatory Procedures

We follow the Administrative Procedure Act (APA) rulemaking procedures specified in 5 USC 553 when we develop regulations. Generally, the APA requires that an agency provide prior notice and opportunity for public comment before issuing a final rule. The APA provides exceptions to its notice and public comment procedures when an agency finds good cause for dispensing with such procedures because they are impracticable, unnecessary, or contrary to the public interest.¹⁰

¹⁰ 5 U.S.C. 553(b)(B).

We find that good cause exists for proceeding without prior public notice and comment in this instance. As discussed above, the change we are making in this interim final rule will make the Ticket program more effective by allowing us to target our limited resources available for Ticket outreach to those disabled beneficiaries who are more likely to return to work with the employment supports provided under the Ticket program. This change will allow us to better utilize our scarce administrative resources in light of the current budgetary constraints under which we are operating. Accordingly, we find that prior public comment would be contrary to the public interest in this instance. However, we are inviting public comment on the rule and will consider any relevant comments we receive within sixty days of its publication.

In addition, for the reasons cited above, we also find good cause for dispensing with the thirty-day delay in the effective date of this rule.¹¹ Since the change we are making to this rule will make the Ticket program more effective and allow us to better utilize our scarce administrative resources, we find that it is contrary to the public interest to delay the effective date of our rule. Accordingly, we are making this rule effective upon publication.

¹¹ See 5 U.S.C. 553(d)(3).

Executive Order 12866 as Supplemented by Executive Order 13563

We consulted with the Office of Management and Budget (OMB) and determined that this interim final rule meets the criteria for a significant regulatory action under Executive Order 12866, as supplemented by Executive Order 13563. Therefore, OMB reviewed it.

Regulatory Flexibility Act

We certify that this interim final rule will not have a significant economic impact on a substantial number of small entities because it only affects individuals. Therefore, a regulatory flexibility analysis is not required under the Regulatory Flexibility Act, as amended.

Paperwork Reduction Act

This interim final rule imposes no reporting or recordkeeping requirements subject to OMB clearance.

(Catalog of Federal Domestic Assistance Program Nos. 96.001 Social Security Disability Insurance; 96.006 Supplemental Security Income; 96.008)

List of Subjects in 20 CFR Part 411

Administrative practice and procedure, Blind, Disability benefits, Public assistance programs, Reporting and recordkeeping requirements, Social Security, Supplemental Security Income (SSI), Vocational rehabilitation.

Michael J. Astrue,
Commissioner of Social Security.

For the reasons set out in the preamble, we amend 20 CFR chapter III, part 411, subpart B as set forth below:

PART 411—THE TICKET TO WORK AND SELF-SUFFICIENCY PROGRAM

1. The authority citation for part 411 continues to read as follows:

Authority: Secs. 702(a)(5) and 1148 of the Social Security Act (42 U.S.C. 902(a)(5) and 1320b-19); sec. 101(b)-(e), Public Law 106-170, 113 Stat. 1860, 1873 (42 U.S.C. 1320b-19 note).

Subpart B—[Amended]

2. Revise § 411.130 to read as follows:

§ 411.130 How will we distribute tickets under the Ticket to Work program?

We may send you a ticket if you are eligible to receive one under § 411.125. All Ticket-eligible beneficiaries may receive a Ticket upon request.

[FR Doc. 2012-405 Filed 1-11-12; 8:45 am]

BILLING CODE 4191-02-P